LEGAL SERVICES CORPORATION

Sunshine Act Meetings of Board of Directors Finance Committee

Times and Dates: The Finance Committee of the Legal Services Corporation's Board of Directors will meet at 10 a.m. Eastern Time on September 17, 2007.

Location: Legal Services Corporation Headquarters, 3rd Floor Conference Center, 333 K Street, NW., Washington, DC

Public Observation by Telephone: Members of public that wish to listen to the meeting live may do so by following the telephone call-in directions given below. You are asked to keep your telephone muted to eliminate background noises. Comments from the public may be solicited from time to time by the presiding Chairman.

Call-In Directions for Both Meetings:

• Call toll-free number 1-800-621-8349;

• When prompted, enter the following numeric pass code: 57758;

• When connected to the call, please “MUTE” your telephone immediately. You may do so by dialing “*6”.

Status of Meeting: Open.

Matters to be Considered:

Agenda

1. Approval of agenda.

2. Presentation of the Financial Report through July 31, 2007.

3. Consider and act on LSC's FY 2009 Appropriations Request.

a. Staff Presentation.

b. Presentation by the American Bar Association.

c. Presentation by the National Legal Aid and Defender Association.

d. Other public comments.

4. Consider and act on other business.

5. Consider and act on adjournment.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: August 30, 2007.
Victor M. Fortuno,
Vice President for Legal Affairs, General Counsel & Corporate Secretary.

[FR Doc. 07-4315 Filed 8-30-07; 10:50 am]

BILLING CODE 7050-01-M